DEPARTMENT OF COMMERCE

National Oceanic and Atmospheric Administration

RIN 0648-XE858

Western Pacific Fishery Management Council; Public Meetings

AGENCY: National Marine Fisheries Service (NMFS), National Oceanic and Atmospheric Administration (NOAA), Commerce.

ACTION: Notice of a public meeting and hearing.

SUMMARY: The Western Pacific Fishery Management Council (Council) will hold a meeting of its Commonwealth of the Northern Mariana Islands (CNMI) Mariana Archipelago Fishery Ecosystem Plan (FEP) Advisory Panel (AP) and Guam Mariana Archipelago FEP AP to discuss and make recommendations on fishery management issues in the Western Pacific Region.

DATES: The CNMI Mariana Archipelago FEP AP will meet on Wednesday, September 21, 2016, between 6 p.m. and 9 p.m. and the Guam Mariana Archipelago FEP AP will meet on Saturday, September 24, 2016, between 1 p.m. and 5 p.m. All times listed are local island times. For specific times and agendas, see SUPPLEMENTARY INFORMATION.

ADDRESSES: The CNMI Mariana Archipelago FEP AP will meet at the Hyatt Regency Saipan, Royal Palm Avenue, Micro Beach Road, Garapan, Saipan, CNMI 96950. The Guam Mariana Archipelago FEP AP will meet at the Hilton Guam Resort and Spa, 202 Hilton Road, Tumon Bay, Guam 96913.

FOR FURTHER INFORMATION CONTACT: Kitty M. Simonds, Executive Director, Western Pacific Fishery Management Council; telephone: (808) 522-8220.

SUPPLEMENTARY INFORMATION: Public comment periods will be provided in the agenda. The order in which agenda items are addressed may change. The meetings will run as late as necessary to complete scheduled business.

Schedule and Agenda for the CNMI Mariana Archipelago FEP AP Meeting

Wednesday, September 21, 2016, 6 p.m.-9 p.m.

1. Welcome and Introductions

2. Outstanding Council Action Items

3. Council Issues

A. 2017 U.S. Territory Bigeye Tuna Limits

B. Council Coral Reef Projects

C. Report on Military Activities and Issues

4. Update on Council Projects in the Marianas

A. Coral Reef Projects

B. Data Collection Projects

C. Community-Based Projects

5. Mariana FEP Community Activities

6. Marianas FEP AP-CNMI Issues

A. Report of the Subpanels

i. Island Fisheries Subpanel

ii. Pelagic Fisheries Subpanel

iii. Ecosystems and Habitat Subpanel

iv. Indigenous Fishing Rights Subpanel

B. Other Issues

7. Public Comment

8. Discussion and Recommendations

9. Other Business

Schedule and Agenda for the Guam Mariana Archipelago FEP AP Meeting

Saturday, September 24, 2016, 1 p.m.-5 p.m.

1. Hafa Adai—Welcome and Introductions

2. Outstanding Council Action Items

3. Council Issues

A. 2017 U.S. Territory Bigeye Tuna Limits

B. Council Coral Reef Projects

C. Report on Military Activities and Issues

4. Update on Council Projects in the Marianas

A. Coral Reef Projects

B. Data Collection Projects

C. Community-Based Projects

5. Mariana FEP Community Activities

6. Marianas FEP AP-Guam Issues

A. Report of the Subpanels

i. Island Fisheries Subpanel

ii. Pelagic Fisheries Subpanel

iii. Ecosystems and Habitat Subpanel

iv. Indigenous Fishing Rights Subpanel

B. Other Issues

7. Public Comment

8. Discussion and Recommendations

9. “At the End of the Day”—Other Business

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 31, 2016.
Tracey L. Thompson,
Acting Deputy Director, Office of Sustainable Fisheries, National Marine Fisheries Service.

[FR Doc. 2016-21314 Filed 9-2-16; 8:45 am]

BILLING CODE 3510-22-P